DEPARTMENT OF TRANSPORTATION

Federal Aviation Administration

14 CFR Part 95

[Docket No. 30538; Amdt. No. 466]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, March 15, 2007.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation, as the anticipated impact is so minimal. For the same reason, the FAA certifies that this amendment will not have a significant economic impact on a substantial number of small entities under the criteria of the Regulatory Flexibility Act.

List of Subjects in 14 CFR Part 95

Airspace, Navigation (air).

Issued in Washington, DC on February 15, 2007.
James J. Ballough,
Director, Flight Standards Service.

Adoption of the Amendment

Accordingly, pursuant to the authority delegated to me by the Administrator, part 95 of the Federal Aviation Regulations (14 CFR part 95) is amended as follows effective at 0901 UTC, January 18, 2007.

1. The authority citation for part 95 continues to read as follows:

Authority: 49 U.S.C. 106(g), 40103, 40106, 40113, 40114, 40120, 44502, 44514, 44719, 44721.

2. Part 95 is amended to read as follows:

Revisions To IFR Altitudes Changeover Points—Amendment 466
[Effective date March 15, 2007]
From | To | MEA
§ 95.1001 Direct Routes—U.S.
COLOR ROUTES:
§ 95.10 Amber Federal Airway A9 is Amended to Read in Part
EVANSVILLE, AK NDB | BROWERVILLE, AK NDB | *10000
*9100—MOCA
§ 95.6001 Victor Routes—U.S.
§ 95.6002 VOR Federal Airway V2 is Amended to Read in Part
SALEM, MI VORTAC | DELOW, MI FIX | 3000
DELOW, MI FIX | U.S. CANADIAN BORDER | *4000
*2800—MOCA
§ 95.6014 VOR Federal Airway V14 is Amended to Read in Part
FINDLAY, OH VORTAC | OBRLN, OH FIX | *3500
*2400—MOCA
OBRLN, OH FIX | DRYER, OH VOR/DME | *3000
*2400—MOCA
95.6020 VOR Federal Airway V20 is Amended to Read in Part
HOBBY, TX VOR/DME | BEAUMONT, TX VOR/DME | 2100
§ 95.6026 VOR Federal Airway V26 is Amended to Read in Part
DETROIT, MI VOR/DME | U.S. CANADIAN BORDER | *3400
*2300—MOCA
U.S. CANADIAN BORDER | GEMNI, OH FIX | *3400
*2300—MOCA
GEMNI, OH FIX | DRYER, OH VOR/DME | *3000
*2200—MOCA
§ 95.6040 VOR Federal Airway V40 is Amended to Delete
U.S. CANADIAN BORDER | *KITTY, OH FIX | 4000
*4000—MRA
KITTY, OH FIX | DRYER, OH VOR/DME | 3000
§ 95.6042 VOR Federal Airway V42 is Amended to Delete
WATERVILLE, OH VOR/DME | VARYS, OH INT | 4000
VARYS, OH INT 3500 | DROVE, OH INT | MAA—14000
DROVE, OH INT | YOUNGSTOWN, OH VORTAC | 3000
§ 95.6048 VOR Federal Airway V48 is Amended to Read in Part
PEORIA, IL VORTAC | MAROC, IL FIX | *3000
*2300—MOCA
MAROC, IL FIX | PONTIAC, IL VOR/DME | 2400
§ 95.6053 VOR Federal Airway V53 is Amended to Read in Part
LOUISVILLE, KY VORTAC | HOUSE, IN FIX | *10000
*3000—MOCA
HOUSE, IN FIX | MOUTH, IN FIX | *2800
*2300—MOCA
MOUTH, IN FIX | BRICKYARD, IN VORTAC | 2700
§ 95.6069 VOR Federal Airway V69 is Amended to Read in Part
PONTIAC, IL VOR/DME | JOLIET, IL VORTAC | *3000
*2200—MOCA
§ 95.672 VOR Federal Airway V72 is Amended to Delete
ROSEWOOD, OH VORTAC | MANSFIELD, OH VORTAC | 3000
MANSFIELD, OH VORTAC | AKRON, OH VOR/DME | 3000
AKRON, OH VOR/DME | YOUNGSTOWN, OH VORTAC | 3000
YOUNGSTOWN, OH VORTAC | HAGAR, PA FIX | 3000
HAGAR, PA FIX | TIDIOUTE, PA VORTAC | 3500
TIDIOUTE, PA VORTAC | BRADFORD, PA VOR/DME | 4000
*3500—MOCA
BRADFORD, PA VOR/DME | EXALL, PA FIX | *4500
EXALL, PA FIX | ELMIRA, NY VOR/DME | *4000
*3500—MOCA
ELMIRA, NY VOR/DME | BINGHAMTON, NY VORTAC | 3500
BINGHAMTON, NY VORTAC | OXFOR, NY FIX | 3500
OXFOR, NY FIX | ROCKDALE, NY VOR/DME | 4000
ROCKDALE, NY VOR/DME | ALBANY, NY VORTAC | 4000
ALBANY, NY VORTAC | CAMBRIDGE, NY VOR/DME | *4000
*3000—MOCA
CAMBRIDGE, NY VOR/DME | *JAMMA, VT FIX | **6000
*5000—MCA JAMMA, VT FIX , W BND
**5400—MOCA
JAMMA, VT FIX | LEBANON, NH VOR/DME | 5000
§ 95.6075 VOR Federal Airway V75 is Amended to Read in Part
DRYER, OH VOR/DME | U.S. CANADIAN BORDER | *4000
*2200—MOCA
§ 95.6090 VOR Federal Airway V90 is Amended to Read in Part
SALEM, MI VORTAC | U.S. CANADIAN BORDER | *4000
*2700—MOCA
U.S. CANADIAN BORDER | BEWEL, OH FIX | *4000
*2700—MOCA
BEWEL, OH FIX | DUNKIRK, NY VORTAC | 3000
§ 95.6096 VOR Federal Airway V96 is Amended to Read in Part
FORT WAYNE, IN VORTAC | ILLIE, OH FIX | *5000
*2200—MOCA
ILLIE, OH FIX | ANNTS, OH FIX | *16000
*2100—MOCA
ANNTS, OH FIX | DETROIT, MI VOR/DME | *3000
*2000—MOCA
§ 95.6103 VOR Federal Airway V103 is Amended to Read in Part
AKRON, OH VOR/DME | U.S. CANADIAN BORDER | *9000
*2700—MOCA
U.S. CANADIAN BORDER | DETROIT, MI VOR/DME | *4000
*2700—MOCA
DETROIT, MI VOR/DME | PONTIAC, MI VORTAC | *3000
*2400—MOCA
§ 95.6116 VOR Federal Airway V116 is Amended to Delete
EXCEL, MO FIX | MACON, MO VOR/DME | *3000
*2300—MOCA
MACON, MO VOR/DME | QUINCY, IL VORTAC | *2700
*2100—MOCA
QUINCY, IL VORTAC | PEORIA, IL VORTAC | *2500
*2000—MOCA
PEORIA, IL VORTAC | MAROC, IL FIX | *3000
*2300—MOCA
MAROC, IL FIX | PONTIAC, IL VOR/DME | 2400
PONTIAC, IL VOR/DME | JOLIET, IL VORTAC | *3000
*2200—MOCA
§ 95.6116 VOR Federal Airway V116 is Amended to Read in Part
U.S. CANADIAN BORDER | TRACE, OH FIX | *7000
*1900—MOCA
TRACE, OH FIX | ERIE, PA VORTAC | *3000
*2200—MOCA
§ 95.6176 VOR Federal Airway V176 is Added to Read
CARLETON, MI VORTAC | U.S. CANADIAN BORDER | *3000
*2100—MOCA
*2100—MOCA
§ 95.6222 VOR Federal Airway V222 is Amended to Read in Part
HUMBLE, TX VORTAC | BEAUMONT, TX VOR/DME | 3000
§ 95.6262 VOR Federal Airway V262 is Amended to Read in Part
MOTIF, IL FIX | JOLIET, IL VORTAC | *3000
*2200—MOCA
§ 95.6297 VOR Federal Airway V297 is Amended to Delete
SAGINAW, MI VOR/DME | BENNY, MI FIX | 2200
BENNY, MI FIX | BANJO, MI FIX | 2500
BANJO, MI FIX | ZABLE, MI FIX | *5000
*2700—MOCA
ZABLE, MI FIX | *RONDO, MI FIX | 3000
*5000—MRA
*RONDO, MI FIX | OTREE, MI FIX | **3000
*5000—MRA
**2400—MOCA
OTREE, MI FIX | PELLSTON, MI VORTAC | *3000
*2400—MOCA
§ 95.6297 VOR Federal Airway V297 is Amended to Read in Part
AKRON, OH VOR/DME | U.S. CANADIAN BORDER | *6000
*3000—MOCA
§ 95.6383 VOR Federal Airway V383 is Added to Read
ROSEWOOD, OH VORTAC | DETROIT, MI VOR/DME | 3100
§ 95.6396 VOR Federal Airway V396 is Added to Read
U.S. CANADIAN BORDER | CHARDON, OH VOR/DME | *8000
*2700—MOCA
§ 95.6406 VOR Federal Airway V406 is Added to Read
SALEM, MI VORTAC | U.S. CANADIAN BORDER | *4000
*2700—MOCA
§ 95.6410 VOR Federal Airway V410 is Added to Read
PONTIAC, MI VORTAC | U.S. CANADIAN BORDER | *4000
*2500—MOCA
§ 95.6416 VOR Federal Airway V416 is Added to Read
ROSEWOOD, OH VORTAC | *LAWTO, OH FIX | **4000
*4000—MRA
**2500—MOCA
*LAWTO, OH FIX | MANSFIELD, OH VORTAC | *4000
*4000—MRA
*2500—MOCA
MANSFIELD, OH VORTAC | JAKEE, OH FIX | 3000
§ 95.6418 VOR Federal Airway V418 is Added to Read
SALEM, MI VORTAC | U.S. CANADIAN BORDER | *4000
*2700—MOCA
U.S. CANADIAN BORDER | BEWEL, OH FIX | *4000
*2700—MOCA
BEWEL, OH FIX | JAMESTOWN, NY VOR/DME | *4000
*3300—MOCA
§ 95.6426 VOR Federal Airway V426 is Added to Read
CARLETON, MI VORTAC | AMRST, OH FIX | *3000
*2400—MOCA
AMRST, OH FIX | DRYER, OH VOR/DME | *3000
*2200—MOCA
§ 95.6435 VOR Federal Airway V435 is Amended to Read in Part
ROSEWOOD, OH VORTAC | OBRLN, OH FIX | *5000
*2700—MOCA
OBRLN, OH FIX | DRYER, OH VOR/DME | *3000
*2400—MOCA
95.6467 VOR Federal Airway V467 is Added to Read
RICHMOND, IN VORTAC | WATERVILLE, OH VOR/DME | *10000
*3000—MOCA
WATERVILLE, OH VOR/DME | DETROIT, MI VOR/DME | *3000
*2100—MOCA
§ 95.6471 VOR Federal Airway V471 is Amended to Read in Part
BARHA, ME FIX | BANGOR, ME VORTAC | *3000
*2500—MOCA
BANGOR, ME VORTAC | MILLINOCKET, ME VOR/DME | *2500
*2100—MOCA
MILLINOCKET, ME VOR/DME | HOULTON, ME VOR/DME | *2600
*2000—MOCA
HOULTON, ME VOR/DME | U.S. CANADIAN BORDER | *2600
*2100—MOCA
§ 95.6486 VOR Federal Airway V486 is Added to Read
LEBRN, OH FIX | CHARDON, OH VOR/DME | 3000
CHARDON, OH VOR/DME | ALLCO, PA FIX | 3300
ALLCO, PA FIX | JAMESTOWN, NY VOR/DME | *3700
*3200—MOCA
§ 95.6526 VOR Federal Airway V526 is Amended to Delete
WATERVILLE, OH VOR/DME | DRYER, OH VOR/DME | 2700
DRYER, OH VOR/DME | CHARDON, OH VOR/DME | 3000
CHARDON, OH VOR/DME | YOUNGSTOWN, OH VORTAC | 3000
YOUNGSTOWN, OH VORTAC | MERCY, PA FIX | 3000
MERCY, PA FIX | CLARION, PA VOR/DME | *3100
*3100—MOCA
95.6542 VOR Federal Airway V542 is Added to Read
ROSEWOOD, OH VORTAC | *LAWTO, OH FIX | **4000
*4000—MRA
**2500—MOCA
*LAWTO, OH FIX | MANSFIELD, OH VORTAC | **4000
*4000—MRA
**2500—MOCA
MANSFIELD, OH VORTAC | AKRON, OH VOR/DME | 3000
AKRON, OH VOR/DME | YOUNGSTOWN, OH VORTAC | *3000
*2600—MOCA
YOUNGSTOWN, OH VORTAC | HAGAR, PA FIX | 3000
HAGAR, PA FIX | TIDIOUTE, PA VORTAC | 3500
TIDIOUTE, PA VORTAC | BRADFORD, PA VOR/DME | *4000
*3500—MOCA
BRADFORD, PA VOR/DME | EXALL, PA FIX | *4500
*3500—MOCA
EXALL, PA FIX | ELMIRA, NY VOR/DME | *4000
*3500—MOCA
ELMIRA, NY VOR/DME | BINGHAMTON, NY VORTAC | 3500
BINGHAMTON, NY VORTAC | OXFOR, NY FIX | 3500
OXFOR, NY FIX | ROCKDALE, NY VOR/DME | 4000
ROCKDALE, NY VOR/DME | ALBANY, NY VORTAC | 4000
ALBANY, NY VORTAC | CAMBRIDGE, NY VOR/DME | *4000
*3000—MOCA
CAMBRIDGE, NY VOR/DME | *JAMMA, VT FIX | **6000
*5000—MCA JAMMA, VT FIX , W BND
**5400—MOCA
JAMMA, VT FIX | LEBANON, NH VOR/DME | 5000
§ 95.6584 VOR Federal Airway V584 is Added to Read
WATERVILLE, OH VOR/DME | DRYER, OH VOR/DME | *3000
*2200—MOCA
§ 95.6586 VOR Federal Airway V586 is Added to Read
EXCEL, MO | FIX MACON, MO VOR/DME | *3000
*2300—MOCA
MACON, MO VOR/DME | QUINCY, IL VORTAC | *2700
*2100—MOCA
QUINCY, IL VORTAC | PEORIA, IL VORTAC | *2500
*2000—MOCA
PEORIA, IL VORTAC | MAROC, IL FIX | *3000
*2300—MOCA
MAROC, IL FIX | PONTIAC, IL VOR/DME | 2400
PONTIAC, IL VOR/DME | JOLIET, IL VORTAC | *3000
*2200—MOCA
§ 95.6609 VOR Federal Airway V609 is Added to Read
SAGINAW, MI VOR/DME | BENNY, MI FIX | 2200
BENNY, MI FIX | BANJO, MI FIX | *3000
*2200—MOCA
BANJO, MI FIX | ZABLE, MI FIX | *5000
*2900—MOCA
ZABLE, MI FIX | *RONDO, MI FIX | 3000
*5000—MRA
*RONDO, MI FIX | OTREE, MI FIX | **3000
*5000—MRA
**2400—MOCA
OTREE, MI FIX | PELLSTON, MI VORTAC | *3000
*2400—MOCA

Airway segment: From | Airway segment: To | Changeover points: Distance | Changeover points: From
§ 95.8003 VOR Federal Airway Changeover Points is Amended to Modify Changeover Point
WHITE CLOUD, MI VOR/DME | MANISTEE, MI VOR/DME | 28 | WHITE CLOUD.

[FR Doc. E7-3051 Filed 2-22-07; 8:45 am]

BILLING CODE 4910-13-P